NATIONAL ARCHIVES AND RECORDS ADMINISTRATION

[NARA-2020-042]

Agency Information Collection Activities: Submission for OMB Review; Comment Request

AGENCY: National Archives and Records Administration (NARA).

ACTION: Notice.

SUMMARY: We have submitted to OMB for approval our request to continue to use the information collection described in this notice, consisting of National Archives Trust Fund (NATF) order forms for genealogical research in the National Archives. The NATF forms included in this information collection are: NATF 84, National Archives Order for Copies of Land Entry Files; NATF 85, National Archives Order for Copies of Pension or Bounty Land Warrant Applications; and NATF 86, National Archives Order for Copies of Military Service Records. We invite you to comment on the proposed extension.

DATES: OMB must receive written comments on or before July 2, 2020.

ADDRESSES: Send comments and recommendations for the proposed information collection to www.reginfo.gov/public/do/PRAMain by July 2, 2020. Find this particular information collection by selecting “Currently under 30-day Review—Open for Public Comments” or by using the search function.

FOR FURTHER INFORMATION CONTACT: Contact Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the general public and other Federal agencies to comment on proposed information collections. We published a notice of proposed collection for this information collection on March 20, 2020 (85 FR 16135) and we received no comments. We have therefore submitted the described information collection to OMB for approval.

You should address one or more of the following points in any comments or suggestions you submit: (a) whether the proposed information collections are necessary for NARA to properly perform its functions; (b) our estimates of the burden of the proposed information collections and their accuracy; (c) ways we could enhance the quality, utility, and clarity of the information we collect; (d) ways we could minimize the burden on respondents of collecting the information, including through information technology; and (e) whether these collections affect small businesses. All comments will become a matter of public record. In this notice, we solicit comments concerning the following information collection:

Title: Order Forms for Genealogical Research in the National Archives.

OMB number: 3095-0027.

Agency form numbers: NATF Forms 84, 85, and 86.

Type of review: Regular.

Affected public: Individuals or households.

Estimated number of respondents: 7,139.

Estimated time per response: 10 minutes.

Frequency of response: On occasion.

Estimated total annual burden hours: 1,190.

Abstract: We need to obtain specific information from researchers who wish to request copies of these records, in order to search for the specific records they seek and to handle their order and payment for copies of the records. We use these standardized forms as the means of collecting the needed information so that we can handle the volume of requests we receive for these records in a timely fashion. Researchers provide credit card information to authorize billing or request expedited mailing of the copies. They may use paper or electronic versions of the forms or may fill them out and order online through our Order Online! service at http://www.archives.gov/research_room/obtain_copies/military_and_genealogy_order_forms.html.

Swarnali Haldar,
Executive for Information Services/CIO.

[FR Doc. 2020-11826 Filed 6-1-20; 8:45 am]

BILLING CODE 7515-01-P